DEPARTMENT OF THE INTERIOR

National Park Service

Chesapeake and Ohio Canal National Historical Park Advisory Commission; Notice of Public Meeting Location Change

Notice is hereby given in accordance with the Federal Advisory Committee Act that a meeting of the Chesapeake and Ohio Canal National Historical Park Advisory Commission will be held at 9:30 a.m. on Friday, April 21, 2006, at St. Patrick's Church, Father Demetrius A. Gallitzin Parish Center, 209 N. Centre Street, Cumberland, Maryland.

The original notice was published in the Federal Register on February 17, vol. 71 Page 8615. This is a location change notice.

Dated: March 7, 2006.
Kevin D. Brandt,
Superintendent, Chesapeake and Ohio Canal National Historical Park.

[FR Doc. 06-2500 Filed 3-14-06; 8:45 am]

BILLING CODE 4310-6V-M